DEPARTMENT OF TRANSPORTATION

National Highway Traffic Safety Administration

[Docket No. NHTSA-2012-0179]

Agency Information Collection Request

AGENCY: National Highway Traffic Safety Administration (NHTSA), Department of Transportation (DOT).

ACTION: Notice of submission of information collection request to Office of Management and Budget (OMB).

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on January 16, 2013.

DATES: Comments must be submitted on or before September 26, 2013.

ADDRESSES: Send comments, within 30 days, to the Office of Information and Regulatory Affairs, Office of Management and Budget, 725-17th Street NW., Washington, DC 20503, Attention: NHTSA Desk Officer.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Julie Kang, Ph.D., Contracting Officer's Technical Representative Task Order Manager, Office of Human-Vehicle Performance Research (NVS-331), National Highway Traffic Safety Administration, 1200 New Jersey Ave SE., Washington, DC 20590. Dr. Kang's phone number is 202-366-7664. Her email address is julie.kang@dot.gov.

SUPPLEMENTARY INFORMATION: Title: Driver Monitoring of Inattention and Impairment Using Vehicle Equipment (Phase 2)

OMB Control Number: None

Type of Request: New Information Collection

Abstract: In 2011, the National Highway Traffic Safety Administration reported 29,757 fatal vehicle crashes in the United States. A large proportion of these crashes were caused by one of three factors: 31% alcohol intoxication, 2.4% drowsy, and 7.1% distracted cases. In an effort to understand potential mitigation strategies, NHTSA has contracted with the University of Iowa's National Advanced Driving Simulator (NADS) to develop and evaluate vehicle-based algorithms to detect impairment and inattention.

NHTSA proposes an experimental driving simulator study to develop algorithms for detecting impaired driving. This study will measure the ability of subjects to maintain lane position and vehicle speed relative to the posted speed limit while either drowsy or distracted by a secondary task while driving a driving simulator. NHTSA is requesting clearance to collect voluntary information from subjects to determine their eligibility to participate and remain in the driving simulator study.

Affected Public: Voluntary study participants.

Number of Respondents: Under this proposed effort, the University of Iowa, National Advanced Driving Simulator will contact approximately 168 individuals by phone and use a screening questionnaire to determine their eligibility for the study. It is estimated that 96 of these individuals will qualify to be enrolled into the study. The 96 individuals who will be contacted are persons in Eastern Iowa who have volunteered to take part in driving simulation studies in the past. Businesses are ineligible for the sample and will not be contacted.

Number of Responses: Each respondent will complete the process once.

Total Annual Burden Hours: It is estimated that the total respondent burden will be 247 hours. Respondents who complete the phone screening will have a burden of 10 minutes each for a total of 28 hours. Respondents who go on to be enrolled in the study will have an additional burden of 61 minutes for a total of 219 hours. There are no additional costs to respondents

Frequency of Collection: This is a one-time collection.

Authority: The Paperwork Reduction Act of 1995; 44 U.S.C. Chapter 35, as amended; and 49 CFR 1.95.

Issued in Washington, DC on August 22, 2013.
Nathaniel Beuse,
Associate Administrator, Office of Vehicle Safety Research.

[FR Doc. 2013-20858 Filed 8-26-13; 8:45 am]

BILLING CODE 4910-59-P